DEPARTMENT OF TRANSPORTATION

Federal Aviation Administration

14 CFR Part 39

[Docket No. 2003-NE-21-AD; Amendment 39-13183; AD 2003-11-23]

RIN 2120-AA64

Airworthiness Directives; International Aero Engines AG (IAE) V2522-A5, V2524-A5, V2527-A5, V2527E-A5, V2527M-A5, V2530-A5, and V2533-A5 Turbofan Engines; Correction

AGENCY: Federal Aviation Administration, DOT.

ACTION: Final rule; correction

SUMMARY: This document makes a correction to Airworthiness Directive (AD) 2003-11-23 applicable to IAE V2522-A5, V2524-A5, V2527-A5, V2527E-A5, V2527M-A5, V2530-A5, and V2533-A5 turbofan engines that was published in the Federal Register on June 5, 2003 (68 FR 33621). The lists of engine models in the Airworthiness Directives title, the Summary, the Supplementary Information, and the Applicability section are incorrect. This document corrects those listings. Also, paragraph (c) of the regulatory text was incorrectly printed as run-in with the heading Applicability. In all other respects, the original document remains the same.

EFFECTIVE DATE: Effective June 20, 2003.

FOR FURTHER INFORMATION CONTACT: Glorianne Niebuhr, Aerospace Engineer, Engine Certification Office, FAA, Engine and Propeller Directorate, 12 New England Executive Park, Burlington, MA 01803; telephone (781) 238-7132; fax (781) 238-7199.

SUPPLEMENTARY INFORMATION: A final rule AD, FR Doc, 03-14133 applicable to IAE V2522-A5, V2524-A5, V2527-A5, V2527E-A5, V2527M-A5, V2530-A5, and V2533-A5 turbofan engines, was published in the Federal Register on June 5, 2003 (68 FR 33621). The following correction is needed:

§ 39.13 [Corrected]

On page 33621, in the third column, in the Heading Section, in the Airworthiness Directives title, “International Aero Engines AG (IAE) V2522-A5, V2524-A5, V2527-A5, V2527E-A5, V2527M-A5, and V2530-A5 Turbofan Engines “is corrected to read” International Aero Engines AG (IAE) V2522-A5, V2524-A5, V2527-A5, V2527E-A5, V2527M-A5, V2530-A5, and V2533-A5 Turbofan Engines”. In the same column, in the Summary section, in the fourth and fifth lines, “V2527E-A5, V2527M-A5, and V2530-A5 turbofan engines” is corrected to read “V2527E-A5, V2527M-A5, V2530-A5, and V2533-A5 turbofan engines”.

On page 33622, in the first column, in the Supplementary Information section, in third and fourth lines, change “V2527-A5, V2527E-A5, V2527M-A5, and V2530-A5” to “V2527-A5, V2527E-A5, V2527M-A5, V2530-A5, and V2533-A5”. In the same column, third paragraph, fourth and fifth lines, change “V2527-A5, V2527E-A5, V2527M-A5, and V2530-A5” to “V2527-A5, V2527E-A5, V2527M-A5, V2530-A5, and V2533-A5”.

Issued in Burlington, MA, on June 26, 2003.
Francis A. Favara,
Acting Manager, Engine and Propeller Directorate, Aircraft Certification Service.

[FR Doc. 03-16690 Filed 7-1-03; 8:45 am]

BILLING CODE 4910-13-P